DEPARTMENT OF COMMERCE

National Oceanic and Atmospheric Administration

RIN 0648-XU44

Western Pacific Fishery Management Council; Public Meeting

AGENCY: National Marine Fisheries Service (NMFS), National Oceanic and Atmospheric Administration (NOAA), Commerce.

ACTION: Notice of public meetings

SUMMARY: The Western Pacific Fishery Management Council (Council) will hold a half day meeting of its Pelagics Plan Team (PPT) in Honolulu, HI to discuss fishery issues and develop recommendations for future management.

DATES: The meeting of the PPT will be held on March 4, 2010, from 1 p.m. to 5 p.m.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The Pelagic Plan Team will be convened at the Council Office, 1164 Bishop Street, Suite 1400, Honolulu, HI 96814 between 1 p.m. and 5 p.m. Interested parties who are unable to attend in person will be able to participate via teleconference using the Council's teleconferencing facility (1-888-482-3560, pass code 5228220). The PPT will meet on Thursday, March 4, 2010 at the Council Conference Room to discuss the following agenda items:

Thursday March 4, 2010, 1 p.m.

1. Introduction

2. Hawaii longline bigeye tuna catch limit management

3. Hawaii deep-set longline swordfish trip catch limit

4. Regulatory definition of shortline fishing gear

5. Non-commercial fishing for Pelagic Management Unit Species in Rose Atoll, Marians Trench, and Pacific Remote Island Area National Marine Monuments

6. Potential changes to American Samoa limited entry program,

7. Other fisheries related issues

8. Other business

9. Public comments

10. Pelagic Plan Team Recommendations

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 16, 2010.
William D. Chappell,
Acting Director, Office of Sustainable Fisheries, National Marine Fisheries Service.

[FR Doc. 2010-3194 Filed 2-18-10; 8:45 am]

BILLING CODE 3510-22-S